ENVIRONMENTAL PROTECTION AGENCY

[ER-FRL-6609-9]

Pogo Gold Mine Project in Delta Junction, Alaska; Intent To Prepare an Environmental Impact Statement

AGENCY: U.S. Environmental Protection Agency (EPA)—Region X.

ACTION: Notice of Intent to prepare an Environmental Impact Statement (EIS) for the Pogo Gold Mine Project in Delta Junction, Alaska.

PURPOSE: In accordance with Section 102(2)(C) of the National Environmental Policy Act (NEPA), EPA has identified a need to prepare an Environmental Impact Statement (EIS) and therefore issues this Notice of Intent in accordance with 40 CFR 1507.7.

For a Copy of the Scoping Document and to be Placed on the Project Mailing List Contact: Matthew Harrington, EIS Project Officer, Office of Water, (M/S-130), U.S. EPA Region 10, 1200 Sixth Avenue, Seattle, Washington 98101, Telephone: (206) 553-0246.

SUMMARY: The Environmental Impact Statement (EIS) will evaluate the impacts associated with the development of a 1.3 million ton per year gold mine in the Goodpaster Valley, 38 miles northeast of Delta Junction, Alaska. The project would consist of an underground mine designed to feed gold ore to the mill at an initial rate of approximately 2,500 tons per day (tpd). This would increase to 3,500 tpd over time. The property would produce 375,000 ounces (oz) of gold annually at start-up, increasing to 500,000 oz per year. The Pogo project would require 2 to 3 years to construct and would have an operating life of 12 years based on the current ore reserves. The administrative actions that the EIS must address include issuing an EPA Clean Water Act (CWA) National Pollutant Discharge Elimination System (NPDES) permit and a United States Corps of Engineers CWA 404 permit. The EIS will also address issues related to the Alaska Department of Natural Resources (DNR) access and mining authorizations.

Alternatives: The alternatives to be evaluated include at this time the “no action” alternative, various dry tailings disposal site alternatives, transportation corridor alternatives, various power alternatives, and reclamation alternatives. The proposed project is a joint venture between Teck Resources, Inc., and subsidiary companies of Sumitomo Metal Mining Co., Ltd., and Sumitomo Corporation of Tokyo, Japan. Teck Resources Inc., a wholly owned subsidiary of Teck Corporation of Vancouver, Canada, is the operator of the project.

Scoping: Scoping meetings for the purpose of identifying issues to be evaluated in the EIS will be held in Delta Junction and Fairbanks, Alaska, on September 26 and September 27, respectively. The exact location and times of the meetings will be announced in local newspapers. The public is invited to attend and identify issues that should be addressed in the EIS. A scoping document that explains in greater detail the project and alternatives identified at this time is being sent to known interested parties as of the date of this notice of intent. The public can obtain a copy of the scoping document by contacting Matthew Harrington at the phone number and address listed above in this notice.

Estimated Date of DEIS Release: February 1, 2001.

Responsible Official: Charles E. Findley, Acting Regional Administrator.

Anne N. Miller,
Acting Director, Office of Federal Activities.

[FR Doc. 00-20438 Filed 8-10-00; 8:45 am]

BILLING CODE 6560-50-P